DEPARTMENT OF HOMELAND SECURITY

Coast Guard

46 CFR Part 67

[Docket No. USCG-2023-0305]

RIN 1625-AC87

Multi-Year Certificate of Documentation for Recreational Vessel Owners

AGENCY: Coast Guard, DHS.

ACTION: Final rule.

SUMMARY: The Coast Guard is issuing a final rule for recreational vessel owners to select a recreational vessel endorsement on a Certificate of Documentation (COD) with a validity of 1, 2, 3, 4, or 5 years. Currently, our regulations require that a COD will be effective for a 5-year period. Congress passed, and the President signed, the self-executing National Defense Authorization Act of 2022 (2022 Act), which directs the Coast Guard to issue recreational vessel CODs for 1, 2, 3, 4, or 5 years. By updating the Code of Federal Regulations (CFR) to reflect this change, this final rule harmonizes the requirements of the 2022 Act, aligns CFR text with current Coast Guard policy, and provides vessel owners' statutorily directed option to select the validity period of their COD that best suits their individual needs.

DATES: This final rule is effective December 14, 2023.

ADDRESSES: To view documents mentioned in this preamble as being available in the docket, go to www.regulations.gov, type USCG-2023-0305 in the search box, and click “Search.” Next, in the Document Type column, select “Supporting & Related Material.”

FOR FURTHER INFORMATION CONTACT: For information about this document, call or email Mr. Ronald Teague, Department of Homeland Security, U.S. Coast Guard, National Vessel Documentation Center, 792 T J Jackson Drive, Falling Waters, WV 25419; telephone 304-271-2506, email Ronald.S.Teague@uscg.mil.

SUPPLEMENTARY INFORMATION:

Table of Contents for Preamble

I. Abbreviations

II. Basis and Purpose, and Regulatory History

III. Background

IV. Discussion of the Rule

V. Regulatory Analyses

A. Regulatory Planning and Review

B. Small Entities

C. Assistance for Small Entities

D. Collection of Information

E. Federalism

F. Unfunded Mandates

G. Taking of Private Property

H. Civil Justice Reform

I. Protection of Children

J. Indian Tribal Governments

K. Energy Effects

L. Technical Standards

M. Environment

I. Abbreviations

2018 Act Frank LoBiondo Coast Guard Authorization Act of 2018

2021 final rule Certificate of Documentation—5 Year Renewal Fees final rule

2022 Act National Defense Authorization Act for Fiscal Year 2022

CFR Code of Federal Regulations

COD Certificate of Documentation

DHS Department of Homeland Security

FR Federal Register

NPRM Notice of proposed rulemaking

NVDC National Vessel Documentation Center

OMB Office of Management and Budget

§ Section

SME Subject matter expert

U.S.C. United States Code

II. Basis and Purpose, and Regulatory History

The legal basis for this final rule is found in Section 3511 of the National Defense Authorization Act for Fiscal Year 2022 (Pub. L. 117-81, 135 Stat. 2238) (2022 Act), which the President signed on December 27, 2021. The 2022 Act directed the Coast Guard to allow an owner of a vessel with only a recreational endorsement to choose a Certificate of Documentation (COD) validity period of 1, 2, 3, 4, or 5 years.

The Coast Guard finds that good cause exists under the Administrative Procedure Act, Title 5 of the United States Code (U.S.C.), Section 553, to issue a final rule and dispense with notice and comment procedures. Prior notice and opportunity to comment on this rule are unnecessary under 5 U.S.C. 553(b)(B) because Section 3511 of the 2022 Act provides the Coast Guard no discretion in adopting the specific timeframes for issuance or renewal of recreational vessel CODs. Section 3511 of the 2022 Act does not allow for alternatives. It does not permit the Coast Guard to decide upon a different timeframe for renewal, choose to adopt a different renewal period, or respond to public comments by modifying the substance of the rule. Therefore, soliciting public comment on the correct time period for COD renewal for a recreational vessel, or on the decision to update the regulations to comport with the statutory mandate, is unnecessary. It should be noted that the Coast Guard has already implemented the requirements of Section 3511 of the 2022 Act and is presently issuing multi-year CODs to recreational vessels of at least 5 net tons. In addition, this good cause applies to formatting changes, for clarity, to the fee table in title 46 of the Code of Federal Regulations (CFR) section 67.550. These changes have no substantive effect on the public.

III. Background

Before 2019, the Coast Guard issued CODs for a validity period of 1 year only. Section 512 of the Frank LoBiondo Coast Guard Authorization Act of 2018 (2018 Act) (Pub. L. 115-282, 132 Stat. 4275), codified at 46 U.S.C. 12105, specified that, in 2022, recreational vessels would be issued CODs with a validity period of 5 years. The 2018 Act provided a phase-in period, January 2019 through December 2021, during which recreational vessel owners could select an effective period for CODs for recreational vessels between 1 and 5 years.¹ In January 2021, the Coast Guard published a final rule titled “Certificate of Documentation—5 Year Renewal Fees” (hereafter the “2021 final rule”) implementing those changes (86 FR 5022).²

¹ https://www.congress.gov/115/plaws/publ282/PLAW-115publ282.pdf (last visited 04/26/2023).

² https://www.federalregister.gov/documents/2021/01/19/2021-00526/certificate-of-documentation-5-year-renewal-fees (last visited 04/26/2023).

The purpose of this final rule is to meet the Congressional mandate contained in Section 3511 of the 2022 Act, wherein Congress determined that the Coast Guard shall allow the issuance of a recreational endorsement on CODs with a validity period of 1, 2, 3, 4, or 5 years, instead of the previously mandated period of 5 years.

IV. Discussion of the Rule

The 2022 Act authorizes the owner or operator of a recreational vessel to choose a period of effectiveness between 1 and 5 years for a certificate of documentation for a recreational vessel or the renewal thereof. This rule will bring current Coast Guard regulations in line with this self-executing provision of the 2022 Act. As discussed in section III., Background, the 2018 Act created a multi-year COD phase-in period in anticipation of moving to a 5-year-only validity period for recreational vessel CODs. This 5-year-only COD validity period was anticipated to go into effect on January 1, 2022. However, Congress determined that preserving a multi-year choice of the validity period was in the best interest of recreational vessel owners. As such, the 2022 Act was signed by the President in December 2021, and the 5-year-only COD that was to go into effect on January 1, 2022, was never implemented by the Coast Guard. Instead, the Coast Guard carried out Congress' desire to continue to allow recreational vessel owners and operators the ability to choose a 1-, 2-, 3-, 4-, or 5-year COD.

The Coast Guard made the public aware of this fact on the home page of the website for the National Vessel Documentation Center (NVDC), which processes vessel COD applications and renewals.³ Additionally, the ability to select from multiple validity periods for recreational vessel CODs is still present in NVDC instruction documentation,⁴ the initial application form CG-1258,⁵ and the renewal form CG-1280.⁶

³ https://www.dco.uscg.mil/Our-Organization/Deputy-for-Operations-Policy-and-Capabilities-DCO-D/National-Vessel-Documentation-Center/ (last visited 04/26/2023).

⁴ https://www.dco.uscg.mil/Portals/9/DCO%20Documents/NVDC/COD%20RENEWAL.pdf (last visited 04/23/2023).

⁵ https://www.dco.uscg.mil/Portals/9/DCO%20Documents/NVDC/CG-1258.pdf?ver=MPJjdit5LaS5B0_IFJv_1A%3d%3d (last visited 04/26/2023).

⁶ https://www.dco.uscg.mil/Portals/9/DCO%20Documents/NVDC/CG-1280_Renewal_of_Certificate_Of_Documentation.pdf?ver=WPHaCWFat5gjwLZ4nFiplA%3d%3d (last visited 04/23/2023).

Currently, 46 CFR 67.163(a) states that recreational endorsements on a COD are valid for 5 years. In line with the 2022 Act, the Coast Guard amends this section to reflect that recreational endorsements on CODs can be valid for 1, 2, 3, 4, or 5 years. Additionally, the Coast Guard is editing paragraph (c) of § 67.163 to reflect that recreational endorsements on CODs can be valid for 1, 2, 3, 4, or 5 years. This is necessary for continuity, given the references to this section. The Coast Guard is also amending 46 CFR 67.163(b) to remove the word “original”, as “original” is not relevant when referring to the CG-1280 Vessel Renewal Notification Application for Renewal.

Furthermore, the Coast Guard amends § 67.317 to reflect that recreational endorsements can be renewed for 1, 2, 3, 4, or 5 years. This amendment is necessary to ensure consistency with regulatory text in this section.

Lastly, the Coast Guard revises Table 1 to § 67.550. As recreational vessel CODs will continue to have a multi-year validity period, this change is necessary to reflect both the 2022 Act and the supporting regulatory text for this section. We deleted occurrences of “through December 31, 2021” as it references a phase-in period that has passed. Other formatting updates include separating commercial and recreational applications into two categories, moving notes to the end of the table, adding dollar signs in the “Fee” column, and deleting the “Reference” column as it is not used to calculate the fee amounts. The revised table layout will make it easier to distinguish application fees for commercial vessels from those for recreational vessels. It will also match the table of fees available to the public on NVDC's website. These changes are merely editorial in nature and will not change fee amounts or make any other substantive changes.

V. Regulatory Analyses

We developed this rule after considering numerous statutes and Executive orders related to the rulemaking. Below we summarize our analyses based on these statutes or Executive orders.

A. Regulatory Planning and Review

Executive Orders 12866 (Regulatory Planning and Review), as amended by Executive Order 14094 (Modernizing Regulatory Review) and 13563 (Improving Regulation and Regulatory Review), direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility.

The Office of Management and Budget (OMB) has not designated this rule a significant regulatory action under section 3(f) of Executive Order 12866, as amended by Executive Order 14094. Accordingly, OMB has not reviewed this regulatory action. A regulatory analysis follows.

Background

As discussed in section III., Background, the 2018 Act allowed for a phase-in period of 1, 2, 3, 4, or 5 years for CODs, but would have required strictly 5-year CODs as of January 1, 2022. However, in December of 2021, Congress passed the 2022 Act, which instructed the Coast Guard to amend the 2021 final rule to reflect a continuation of multi-year issuance for recreational vessel CODs; this effectively removed the strict 5-year COD requirement that was established under the 2018 Act and was codified under the 2021 final rule.

The Coast Guard Authorization Act of 2018 and the 2021 Final Rule

As previously discussed, the 2018 Act and the 2021 final rule would have provided COD holders with recreational endorsements the ability to request or renew documentation on a multi-year basis between 2019 and 2021. Beginning in January of 2022, according to the 2021 final rule, COD holders with recreational endorsements could have only requested or renew documentation for a period of 5 years. To provide clarity and assist in the discussion of the impacts of this final rule, a summary of the economic impacts for the 2021 final rule follows:

Table 1—Applicability, Impact and Costs or Cost-Savings of the 2021 Final Rule
Category | Summary
Applicability | To reflect regulatory changes brought by the 2018 Act (Pub. L. 115-282), which directed the Coast Guard to change the validity period of CODs for recreational vessels to a 5-year option only, after a 3-year phase-in period, during which vessel owners could choose 1, 2, 3, 4, or 5 years.
Affected Population | 162,647 vessels.
Benefits | The restructuring of CODs from an annual renewal to a 5-year renewal period would have reduced industry's annual time burden for submitting CODs applications. In addition, the Government would have benefited due to a reduction in the number of applications processed annually.
Cost savings (in 2022 dollars, 7% discount rate) * | Estimated annualized cost-savings of about $5.9 million to Industry at 7-percent discount rate. Federal Government annualized cost-savings of about $8.4 million at 7-percent discount rate. Total annualized cost-savings of about $14.3 million.
* Totals may not add due to rounding.

2022 Act

The primary purpose of this final rule is to harmonize 46 CFR part 67 with current statutory requirements under the 2022 Act, as it pertains to recreational vessel owners who seek CODs on a multi-year basis. In effect, this final rule continues the phase-in period provision specified under the 2018 Act and the 2021 final rule, while removing the 5-year-only COD requirement from the CFR. As such, the impacts provided below are the result of the 2022 Act. We provide two tables that capture the changes in the CFR and economic impacts from the 2022 Act. Table 2 below presents the baseline matrix, which lists the changes between this final rule and the current language under the CFR, while table 5 summarizes the applicability, impact, costs or cost-savings, and benefits associated to the 2022 Act.

Table 2—Baseline Matrix—Changes Between This Multiyear Final Rule and the 2021 Final Rule
Subpart | Description of change | Type of change | Economic impact
67.163(a) | Adds “1, 2, 3, 4, or” to the first paragraph (a) | Editorial | No economic impact.
67.163(b) | Removes “an original” from the second paragraph (b) | Editorial | No economic impact.
67.163(c) | Replaces “A certificate of documentation for a recreational vessel and the renewal of such a certificate shall be effective for a 5-year period. During the period beginning January 1, 2019, and ending December 31, 2021, the owner of a recreational vessel may choose a period of effectiveness of 1, 2, 3, 4, or 5 years for such a certificate of documentation for such vessel or the renewal thereof” with “A Certificate of Documentation for a recreational vessel and the renewal of such a certificate will be effective for 1, 2, 3, 4, or 5 years for such a Certificate of Documentation for such vessel or the renewal thereof” | Editorial/Economic | An estimated cost-savings to the public of $8.3 million annually in 2022 U.S. dollars, discounted at 7-percent.
67.317(a) | Replaces “must” with “can” from the first paragraph (a) | Editorial | No economic impact.
67.317(a) | Adds “for a period of ” within the first paragraph (a) | Editorial | No economic impact.
67.317(a) | Removes “every” from the first paragraph (a) | Editorial | No economic impact.
67.317(a) | Adds “for a period of 1, 2, 3, 4, or” to the first paragraph (a) | Editorial | No economic impact.
67.550 | Table 1 to 67.550 replaced with revised version, editorial changes only to harmonize with Fee Table from NVDC website | Editorial | No economic impact.

Final Rule Costs

The fundamental purpose of this final rule is to codify the 2022 Act; therefore, this final rule does not add any new costs to the Government or the public, nor does it impose any new burden to either entity.

Final Rule Benefits

By amending current language in the CFR to reflect the provisions and requirements specified under the 2022 Act, the Coast Guard harmonizes 46 CFR part 67 with the 2022 Act. Confusion regarding the validity period for a recreational vessel COD will be eliminated, as the CFR will accurately reflect the law and NVDC policy. See table 3 below for a summary of impacts of this final rule.

Table 3—Applicability, Impact and Costs or Cost-Savings of the 2022 Act
Description | Affected population | Costs | Cost-savings | Benefits
The Coast Guard chooses to adopt this final rule and continue to allow COD documentation for 1, 2, 3, 4, or 5 years at vessel owners' discretion The CFR is amended to reflect current statutory language and practice | 38,927 recreational vessels owners and operators of at least 5 net tons who were issued or renewed CODs for 5 years in 2022 | This final rule will not impose any new costs to Government or the public | This final rule will yield an estimated cost-savings to the public of $8.3 million annually in 2022 U.S. dollars, discounted at 7%, by removing the 5-year only COD restriction | The harmonization in language between the CFR and the 2022 Act eliminates confusion among the public or any potentially affected entity.

Affected Population

To determine the affected population for the 2022 Act and this final rule, it is helpful to first understand the distribution of multi-year CODs that vessel owners have been selecting. As noted in section III., Background, the NVDC has continued to offer multi-year COD expiration dates, which is in line with the 2022 Act. We obtained data from the NVDC, which processes vessel COD applications and renewals. As seen in table 4 below, this data consists of the number of CODs issued each year from 2019 to 2022. Table 6 also displays the validity period of CODs issued during this timeframe, ranging from 1, 2, 3, 4, or 5 years. For example, in 2019, the Coast Guard issued 165,599 recreational vessel CODs, of which the vast majority, 153,195, were 1-year CODs, 6,447 were 2-year CODs, 1,398 were 3-year CODs, and so on. We can use this information to track the pattern of consumer choices regarding the multi-year COD options.

Table 4—Cross-Tabulation of Recreational Vessel CODs Issued by Year and Validity Period
Year | Total CODs issued | 1 Year validity | 2 Years validity | 3 Years validity | 4 Years validity | 5 Years validity
2019 | 165,599 | 153,195 | 6,447 | 1,398 | 665 | 3,894
2020 | 163,771 | 148,491 | 7,497 | 1,617 | 632 | 5,534
2021 | 158,610 | 127,851 | 13,184 | 3,927 | 1,768 | 11,880
2022 | 143,944 | 81,776 | 6,942 | 2,398 | 2,021 | 50,807

We note from table 4 that, as we progress from 2019 to 2022, the number of 2,- 3,- and 4-year CODs remains relatively stable and only accounts for a small percentage of total recreational vessel CODs issued each year. We assume that vessel owners selected these duration terms for their CODs because they determined that this was their best and preferred choice. However, this trend does not hold for 1-year and 5-year CODs. We note that, from 2019 to 2022, the trend shifts significantly away from 1-year CODs and increases significantly to 5-year CODs. According to subject matter experts (SMEs), the nearly 5-fold increase in CODs issued with a validity period of 5 years in 2022 can be attributed to 46 CFR 67.163, Renewal of endorsement, paragraph (a), which states the COD validity period for recreational vessels to be 5 years: “Endorsements on Certificates of Documentation are valid for 1 year, except for Recreational Endorsements on Certificates of Documentation, which are valid for 5 years.”

The Coast Guard was mandated by the 2018 Act to implement a 5-year COD for recreational vessel owners, followed by a 3-year, multi-year COD phase-in period. The 2022 Act mandated that the Coast Guard continue to offer the multi-year COD. Therefore, our estimated affected population is calculated as the difference in CODs issued to recreational vessel owners and operators in 2022 with a validity period of 5 years, and the number of CODs issued in 2021 with the same validity period, which totals 38,927 (50,807−11,880 = 38,927). This is the estimate of recreational vessel owners who could transition off a 5-year validity period for recreational vessel CODs once this final rule is implemented.

2022 Act Costs

The 2022 Act does not add any new cost to Government or the public. None of the requirements of the 2022 Act imposes any additional burdens. From a renewal standpoint, recreational vessel owners continue to have the choice to renew on a multi-year basis at their discretion, consistent with the 2018 Act. The Coast Guard is not amending user fees associated with CODs and is continuing with the $26 fee per validity-year for the COD as previously established.

2022 Act Cost-Savings

Although the NVDC has continued to process multi-year CODs, the NVDC has been receiving complaints from vessel owners that private companies have been sending out 5-year-only marketing notices, and that those companies could process this documentation for an additional fee. The NVDC has noted that these individuals assumed that this was their only choice, as 46 CFR part 67 has not been updated to reflect current NVDC practices. Customer have complained to the NVDC that outside companies were charging them an additional fee to process the documentation. The NVDC has noted that the average additional fee that these companies charged has been approximately $212.⁷ These same customer complaints to the NVDC stated that they only used the outside companies because they were under the impression that they had no other choice. We use this estimate, multiplied by the affected population estimate above, to estimate the annual cost savings that recreational vessel owners will incur as we expect these customers to now process their documentation directly with NVDC.

⁷ Estimate is based in review of complaints submitted by vessel owners to the Better Business Bureau (BBB), https://www.bbb.org/us/ca/chino-hills/profile/ship-register/us-vessel-documentation-inc-1066-850028757/complaints, and information provided by SME and the NVDC.

Although the NVDC does not keep track of the number of COD renewals requested by third-party companies on behalf of individual vessel owners, based on extensive discussions with SMEs, the Coast Guard believes that the vast majority of the estimated affected population who renewed CODs with a 5-year validity period in 2022 did so primarily through the use of third-party firms, who, in turn, directed customers to the CFR.

As shown in table 5, the economic impact of the 2022 Act is an estimated annual cost-savings of approximately $8.3 million annually in 2022 U.S. dollars, discounted at 7-percent. This estimate is derived from an estimated affected population of 38,927 recreational vessels (of at least 5 net tons) owners, multiplied by the $212 fee.

Table 5—10-Years Undiscounted and Discounted Cost-Savings to the Public
Year | Undiscounted cost-savings | 7% Discount | 3% Discount
2022 | $8,252,524 | $7,712,639 | $8,012,159
2023 | 8,252,524 | 7,208,074 | 7,778,795
2024 | 8,252,524 | 6,736,518 | 7,552,229
2025 | 8,252,524 | 6,295,811 | 7,332,261
2026 | 8,252,524 | 5,883,936 | 7,118,700
2027 | 8,252,524 | 5,499,005 | 6,911,359
2028 | 8,252,524 | 5,139,257 | 6,710,057
2029 | 8,252,524 | 4,803,044 | 6,514,619
2030 | 8,252,524 | 4,488,826 | 6,324,872
2031 | 8,252,524 | 4,195,165 | 6,140,653
Total | 82,525,240 | 57,962,275 | 70,395,704
Annualized |  | 8,252,524 | 8,252,524
* Totals may not sum due to rounding.

2022 Act Benefits

The 2022 Act preserves consumer choice in selecting a COD-validity timeframe, allowing vessel owners to maximize their welfare based on their own individualized choice matrix. Finally, confusion regarding the validity period for a recreational vessel COD will be eliminated, as the CFR will accurately reflect the law and NVDC policy.

Alternatives

As stated in the Summary and regulatory text, the 2022 Act is a legislatively mandated and self-executing law promulgated by Congress. Hence, the Coast Guard does not have any discretionary action upon its enactment. The Coast Guard is promulgating this final rule to ensure that CFR regulations concur and comply with the 2022 Act. Therefore, no alternatives were considered for this rulemaking.

B. Small Entities

The Regulatory Flexibility Act of 1980 (RFA), 5 U.S.C. 601-612, requires federal agencies to consider the potential impact on small entities when they issue a rule after being required to first publish a general notice of proposed rulemaking. Under 5 U.S.C. 604(a), a regulatory flexibility analysis is not required for this final rule under provision in 5 U.S.C. 553(b)(B), because Section 3511 of the 2022 Act provides the Coast Guard no discretion in adopting the specific timeframes for renewal of recreational vessel CODs. We are not required to publish a general notice of a proposed rulemaking; therefore, we did not conduct a regulatory flexibility analysis for this rule.

C. Assistance for Small Entities

Under section 213(a) of the Small Business Regulatory Enforcement Fairness Act of 1996, Public Law 104-121, we offer to assist small entities in understanding this rule so that they can better evaluate its effects on them and participate in the rulemaking. If this rule would affect your small business, organization, or governmental jurisdiction and you have questions concerning its provisions or options for compliance, please call or email the person in the FOR FURTHER INFORMATION CONTACT section of this rule. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This rule calls for no new or revised collection of information under the Paperwork Reduction Act of 1995, 44 U.S.C. 3501-3520. The OMB Control Number for the Coast Guard's Vessel Documentation collection is 1625-0027. As this final rule codifies current COD options for recreational vessel owners, and we expect no change in the average number of annual submissions, there is no change to the OMB-approved collection.

E. Federalism

A rule has implications for federalism under Executive Order 13132 (Federalism) if it has a substantial direct effect on States, on the relationship between the National Government and the States, or on the distribution of power and responsibilities among the various levels of government. We have analyzed this rule under Executive Order 13132 and have determined that it is consistent with the fundamental federalism principles and preemption requirements described in Executive Order 13132. Our analysis follows.

It is well settled that States may not regulate in categories reserved for regulation by the Coast Guard. It is also well settled that all of the categories covered in 46 U.S.C. 3306, 3703, 7101, and 8101 (design, construction, alteration, repair, maintenance, operation, equipping, personnel qualification, and manning of vessels), and any other category in which Congress intended the Coast Guard to be the sole source of a vessel's obligations, are within the field foreclosed from regulation by the States. See United States v. Locke, 529 U.S. 89 (2000) (finding that the states are foreclosed from regulating tank vessels); see also Ray v. Atlantic Richfield Co., 435 U.S. 151, 157 (1978) (State regulation is preempted where “the scheme of federal regulation may be so pervasive as to make reasonable the inference that Congress left no room for the States to supplement it [or where] the Act of Congress may touch a field in which the federal interest is so dominant that the federal system will be assumed to preclude enforcement of state laws on the same subject” (citations omitted)). This rule implements changes made by Congress to the comprehensive federal vessel documentation requirements of 46 U.S.C. Ch. 121, over which Congress clearly has granted the Coast Guard, via delegation from the Secretary, exclusive authority. Therefore, because the States may not regulate within these categories, this rule is consistent with the fundamental federalism principles and preemption requirements described in Executive Order 13132.

While it is well settled that States may not regulate in categories in which Congress intended the Coast Guard to be the sole source of a vessel's obligations, the Coast Guard recognizes the key role that State and local governments may have in making regulatory determinations.

F. Unfunded Mandates

The Unfunded Mandates Reform Act of 1995, 2 U.S.C. 1531-1538, requires Federal agencies to assess the effects of their discretionary regulatory actions. In particular, the Act addresses actions that may result in the expenditure by a State, local, or tribal government, in the aggregate, or by the private sector of $100,000,000 (adjusted for inflation) or more in any one year. Although this rule will not result in such expenditure, we do discuss the effects of this rule elsewhere in this preamble.

G. Taking of Private Property

This rule will not cause a taking of private property or otherwise have taking implications under Executive Order 12630 (Governmental Actions and Interference with Constitutionally Protected Property Rights).

H. Civil Justice Reform

This rule meets applicable standards in sections 3(a) and 3(b)(2) of Executive Order 12988 (Civil Justice Reform) to minimize litigation, eliminate ambiguity, and reduce burden.

I. Protection of Children

We have analyzed this rule under Executive Order 13045 (Protection of Children from Environmental Health Risks and Safety Risks). This rule is not an economically significant rule and will not create an environmental risk to health or risk to safety that might disproportionately affect children.

J. Indian Tribal Governments

This rule does not have tribal implications under Executive Order 13175 (Consultation and Coordination with Indian Tribal Governments), because it will not have a substantial direct effect on one or more Indian tribes, on the relationship between the Federal Government and Indian tribes, or on the distribution of power and responsibilities between the Federal Government and Indian tribes.

K. Energy Effects

We have analyzed this rule under Executive Order 13211 (Actions Concerning Regulations That Significantly Affect Energy Supply, Distribution, or Use). We have determined that it is not a “significant energy action” under that order because it is not a “significant regulatory action” under Executive Order 12866 and is not likely to have a significant adverse effect on the supply, distribution, or use of energy.

L. Technical Standards and Incorporation by Reference

The National Technology Transfer and Advancement Act, codified as a note to 15 U.S.C. 272, directs agencies to use voluntary consensus standards in their regulatory activities unless the agency provides Congress, through OMB, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

M. Environment

We have analyzed this rule under Department of Homeland Security Management Directive 023-01, Rev. 1, associated implementing instructions, and Environmental Planning COMDTINST 5090.1 (series), which guide the Coast Guard in complying with the National Environmental Policy Act of 1969 (42 U.S.C. 4321-4370f), and have decided that this action is one of a category of actions that do not individually or cumulatively have a significant effect on the human environment. A Record of Environmental Consideration supporting this determination is available in the docket. For instructions on locating the docket, see the ADDRESSES section of this preamble.

This rule meets the criteria for categorical exclusion L54 and L57 in Appendix A, Table 1 of DHS Instruction Manual 023-01-001-01, Rev. 1. Categorical exclusion L54 pertains to regulations that are editorial or procedural. Categorical exclusion L57 pertains to regulations concerning documentation of vessels. This rule involves allowing recreational vessel owners to select a recreational vessel endorsement on a Certificate of Documentation (COD) with a validity of 1, 2, 3, 4, or 5 years. This rule is not part of a larger action, and it will not result in significant impacts to the human environment. The purpose of this final rule is to meet the Congressional mandate contained in Section 3511 of the National Defense Authorization Act of 2022.

List of Subjects in 46 CFR Part 67

Reporting and recordkeeping requirements, Vessels.

For the reasons discussed in the preamble, the Coast Guard amends 46 CFR part 67 as follows:

PART 67—DOCUMENTATION OF VESSELS

1. The authority citation for part 67 is revised to read as follows:

Authority: 14 U.S.C. 664; 31 U.S.C. 9701; 42 U.S.C. 9118; 46 U.S.C. 2103, 2104, 2107, 12102, 12103, 12104, 12105, 12106, 12113, 12133, 12139; DHS Delegation 00170.1, Revision No. 01.3.

2. Amend § 67.163 by:

a. In paragraph (a) introductory text, revising the first sentence.

b. In paragraph (b), removing the text “an original” and adding, in its place, the text “a”; and

c. Revising paragraph (c).

The revisions reads as follows:

§ 67.163 Renewal of endorsement.

(a) * * * Endorsements on Certificates of Documentation are valid for 1 year, except for Recreational Endorsements on Certificates of Documentation, which are valid for 1, 2, 3, 4, or 5 years. * * *

* * * * *

(c) Requirement for renewal of recreational endorsements. A Certificate of Documentation for a recreational vessel and the renewal of such a certificate will be effective for 1, 2, 3, 4, or 5 years for such a Certificate of Documentation for such vessel or the renewal thereof.

§ 67.317 [Amended]

3. In § 67.317, amend paragraph (a) by removing the text “must be renewed every” and add, in its place, the text “can be renewed for a period of 1, 2, 3, 4, or”.

4. Amend § 67.550 by revising Revise Table 1 to read as follows:

§ 67.550 Fee table.

* * * * *

Table 1 to § 67.550—Fees
Activity | Fee
Commercial Applications:
COM Initial Certificate of Documentation (COD) (1 Year Only) | $133.00
COM Exchange of Certificate of Documentation (COD) (1 Year Only) | 84.00
COM Return of Vessel to Documentation (1 Year Only) | 84.00
COM Replacement of Lost or Mutilated COD | 50.00
COM Approval of Exchange of COD requiring Mortgagee consent | 24.00
COM Trade Endorsements: | (¹)
COM Coastwise Endorsement | 29.00
COM Coastwise Bowaters Endorsement | 29.00
COM Fishery Endorsement | 12.00
COM Registry Endorsement | None
COM Recreational Endorsement | None
COM Evidence of Deletion from Documentation | 15.00
COM Renewal of Certificate of Documentation (COD) (1-Year Only) | 26.00
COM Late Renewal | ² 5.00
Recreational Applications:
REC Initial Certificate of Documentation (COD) (1-Year) | ³ 133.00
REC Exchange of Certificate of Documentation (COD) (1-Year) | ³ 84.00
REC Return of Vessel to Documentation (COD) (1-Year) | ³ 84.00
REC Replacement of Lost or Mutilated COD | 50.00
REC Approval of Exchange of COD requiring Mortgagee consent | 24.00
REC Evidence of Deletion from Documentation | 15.00
REC Renewal of Certificate of Documentation (1-Year) | 26.00
2-Year Expiration | 52.00
3-Year Expiration | 78.00
4-Year Expiration | 104.00
5-Year Expiration | 130.00
REC Late Renewal | ² 5.00
Waivers:
Original Build Evidence | 15.00
Bill of Sale Eligible for Filing and Recording | 15.00
Miscellaneous Applications:
Wrecked Vessel Determination | 555.00
New Vessel Determination | 166.00
Rebuild Determination—Preliminary or Final | 450.00
Filing and Recording:
Bill of Sale and Instruments in Nature of Bill of Sale | ⁴ 8.00
Mortgages and Related Instruments | ⁴ 4.00
Notice of Claim of Lien and Related Instruments | ⁴ 8.00
Certificate of Compliance:
Certificate of Compliance (46 CFR Part 68) | 55.00
Miscellaneous:
Abstract of Title (CG-1332) | 25.00
Certificate of Ownership (CG-1330) | 125.00
Attachment for each vessel with same data | 10.00
Certified Copy of Recorded Instrument | 4.00
Certified Copy of Certificate of Documentation | 4.00
Copy of instrument or document | (⁵)
¹ When multiple trade endorsements are requested on the same application, only the single highest applicable fee will be charged, resulting in a maximum endorsement fee of $29.00. This does not apply to recreational endorsements.
² Late renewal fee is in addition to the cost of the endorsement sought.
³ 2-5 Year Expiration (Additional Fee Required—$26.00/year).
⁴ Per page.
⁵ Fees will be calculated in accordance with 6 CFR part 5, subpart A.

Dated: November 6, 2023.
W.R. Arguin,
Rear Admiral, U.S. Coast Guard, Assistant Commandant for Prevention Policy.

[FR Doc. 2023-25024 Filed 11-13-23; 8:45 am]

BILLING CODE 9110-04-P